FEDERAL COMMUNICATIONS COMMISSION

47 CFR Part 73

[DA 08-1405; MB Docket No. 08-67; RM-11426)

Radio Broadcasting Services; La Grande and Prairie City, OR

AGENCY: Federal Communications Commission.

ACTION: Proposed rule.

SUMMARY: This document requests comment on a Petition for Rule Making filed on behalf of KSRV, Inc., licensee of Station KWRL, Channel 225C1, La Grande, Oregon. This document proposes the substitution of Channel 272C for vacant Channel 260C at Prairie City, Oregon. This would allow Station KWRK, La Grande, Oregon, to continue operation on Channel 260C1. The coordinates for the Channel 272C allotment at Prairie City, Oregon, would be 45-07-21 and 117-46-44.

DATES: Comments must be filed on or before August 4, 2008, and reply comments on or before August 19, 2008.

ADDRESSES: Secretary, Federal Communications Commission, Washington, DC 20554. In addition to filing comments with the FCC, interested parties should serve the petitioner's counsel, as follows: J. Dominic Monahan, c/o Luvaas, Cobb, Richards & Fraser, PC, 777 High Street, Suite 300, Eugene, Oregon 97401.

FOR FURTHER INFORMATION CONTACT: Robert Hayne, Media Bureau (202) 418-2177.

SUPPLEMENTARY INFORMATION: This is a synopsis of the Commission's Notice of Proposed Rule Making in MB Docket No. 08-67; adopted June 11, 2008, and released June 13, 2008. The full text of this Commission action is available for inspection and copying during normal business hours in the FCC Reference Information Center at Portals II, CY-A257, 445 12th Street, SW., Washington, DC. The complete text of this action may also be purchased from the Commission's copy contractor, Best Copy and Printing, Inc., 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Oregon, is amended by removing Channel 260C and by adding Channel 272C at Prairie City.

Federal Communications Commission.
John A. Karousos,
Assistant Chief, Audio Division, Media Bureau.

[FR Doc. E8-14652 Filed 6-27-08; 8:45 am]

BILLING CODE 6712-01-P